DEPARTMENT OF THE INTERIOR

National Park Service

60-Day Notice of Intention To Request Clearance of Collection of Information; Opportunity for Public Comment

AGENCY: Department of the Interior, National Park Service.

ACTION: Notice and request for comments.

SUMMARY: Under provisions of the Paperwork Reduction Act of 1995 and 5 CFR part 1320, Reporting and Recordkeeping Requirements, the National Park Service (NPS) invites public comments on an extension of a currently approved collection of information (OMB No. 1024-0236).

DATES: Public comments on the proposed Information Collection Request (ICR) will be accepted on or before May 7, 2007.

ADDRESSES: Send Comments To: Dr. John G. Dennis, Natural Resources (Room 1160), NPS, 1201 Eye Street, NW., Washington, DC 20005; Phone: 202/513-7174; fax: 202/371-2131; e-mail WASO_NRSS_researchcoll@nps.gov. Also, please send a copy of your comments to Leonard Stowe, Information Collection Clearance Officer, NPS, 1849 C St., NW (2605), Washington, DC 20240, or by e-mail at Leonard_Stowe@nps.gov. All responses to this notice will be summarized and included in the request for the Office of Management and Budget (OMB) approval. All comments will become a matter of public record.

FOR FURTHER INFORMATION CONTACT: Bill Commins, NPS, Natural Resources (Room 25), 1201 Eye St., NW., Washington, DC 20005. Phone 202/513-7166; Fax: 202/317-2131; E-mail: bill_commins@nps.gov. You may obtain additional information about the application and annual reporting forms and existing guidance and explanatory material from the NPS Research Permit and Reporting System Web site at: http://science.nature.nps.gov/research. You are entitled to a copy of the entire ICR package free of charge.

SUPPLEMENTARY INFORMATION: Title: Research Permit and Reporting System Collection of Information Package: Application for a Scientific Research and Collecting Permit: Application for a Science Education Permit; Investigator's Annual Report.

Bureau Form Number(s): Application for a Scientific Research and Collecting Permit: 10-741a; Application for a Science Education Permit: 10-741b; Investigator's Annual Report: 10-226.

OMB Number: 1024-0236.

Expiration Date: 6/30/2007.

Type of Request: Revision of a previously approved information collection.

Description of Need: The currently approved information collection responds to the statutory requirement that NPS preserve park resources and regulate the use of units of the National park System. The information currently collected identifies: (1) Names and business contact information for people who seek a permit to conduct natural or social science research and collection activities in individual units of the National Park System, (2) what activities they wish to conduct, (3) where they wish to conduct the activities, (4) whether or not they wish to collect specimens as part of the activities they propose to conduct, and (5) for applicants who have received a permit, annual summaries of the actual results of their permitted activities. NPS uses the collected information for managing the use and preservation of park resources and for reporting the status of permitted research and collecting activities. NPS is considering proposing to develop the Internet software for, and implement, the Application for a Science Education Permit that OMB reviewed and approved in 2004. NPS is proposing to leave the current Application for a Scientific Research and Collecting Permit and the Investigator's Annual Report collection of information forms largely unchanged unless responses to this request for comments identify areas in the two collections of information that warrant change.

In response to suggestions for changes identified prior to and during the review of this information collection package in 2004, NPS added entries to obtain more specific information about project scope and status, including expected total time span of the project, specific identification of project personnel who will be working in the park, status of processing of collected specimens, planned schedules for the field work phases of the project, and expected end date for the project. NPS also split the Application into two versions to improve the ability to use the Internet to process applications for both scientific research and collecting and scientific education activities, but has not yet modified the Internet software to implement the science education component. NPS changed the scientific research and collecting application to improve the clarity of information provided to, and obtained from, respondents who request use of a non-NPS repository regarding the duty the respondents have for securing acceptance by the proposed non-NPS repository of becoming responsible for collections authorized in the permit. NPS changed the Investigator's Annual Report to reduce the complexity of the form by assigning responsibility to NPS, not the respondent, for determining the appropriate activity code for each permitted project. NPS also designed the Investigator's Annual Report to accommodate in a single form progress reports from both science research and collecting and science education permittees.

At this time, NPS is not proposing to make any changes to any of these three collections of information. NPS is considering updating some of the guidance documents and specifically is considering creating a separate guidance document regarding science education activities. NPS specifically requests comments on the clarity and utility of the guidance documents and on desired content of a separate guidance document for the science education activities. NPS also is considering whether to create a new component of this collection of information package specifically to offer users of the Internet site an opportunity to provide comments online regarding the usability of the Internet site and working relationships with parks in which permittees conduct science activities.

Based on growth in use of this collection of information system over the past six years, NPS is proposing to request an increase in the burden hour budget. At the onset of the system, NPS estimated that there would be approximately 3,000 applications and 3,000 Investigator's Annual Reports submitted each year. The average numbers reported for 2004 and 2005 permitted activities, which are the latest two years with complete information for numbers of active permits and submitted Investigator's Annual Reports, show 4,472 studies per year under permit, 5,046 active permits per year, and 3,657 Investigator's Annual Reports. Experience with using this system shows that, for a variety of reasons related to both applicants and parks, a number of studies apply for and obtain more than one permit per year for the same study while other studies receive permits that are active for more than one year at a time. These situations lead to the result that there are more active permits in a year than there are active studies.

Comments are invited on: (1) The practical utility of the information being gathered; (2) the validity and accuracy of the reporting burden hour estimate; (3) ways to enhance the quality, utility, and clarity of the information to be collected; and (4) ways to minimize the burden to respondents, including use of automated information collection techniques or other forms of information technology. Before including your address, phone number, e-mail address, or other personal identifying information in your comment, you should be aware that your entire comment—including your personal identifying information—may be made public available at any time. While you can ask us in your comment to withhold your personal identifying information from public review, we cannot guarantee that we will be able to do so.

Automated Data Collection: The information collection and status reporting system for which the renewal of three components of a single collection of information package is being proposed in this notice currently is available to applicants, permittees, and the public through the NPS Research Permit and Reporting System Web site (http://science.nature.nps.gov/research). In addition to considering the renewal of the three information collection forms without changes, NPS is considering what development of modifications to the Internet site, if any, are needed to increase the effectiveness and efficiency of this automation system to facilitate the permit application and progress reporting process. If NPS were to adopt a component by which users could provide comments to NPS, NPS would make that component available online through the Internet site.

Description of Respondents: Representatives of: Academic and other research institutions, Federal, state, or local agencies, research businesses; other scientific parties seeking an NPS research and collecting or science education permit; permittees who submit the annual report of accomplishment that is one of the permit conditions.

Estimated Average Number of Respondents: NPS estimates the average number of respondents to be 6,500 by 2010.

Estimated Average Number of Responses: NPS estimates an average number of 13,000 responses by 2010.

Estimated Average Burden Hours Per Two-Part Response: 1,625 hours per year total for responding to both parts of this collection of information was the estimate in 2004. NPS does not expect this burden hour estimate to change, even if the proposed opportunity for permit system users to offer comments to NPS is adopted, because returning users are expected to be able to spend less time on the two existing parts and the goal for the collection of information for the comments is to make that collection of information short and focused.

Frequency of Response: 2 times per respondent per year—once to submit the application and once to submit the Investigator's Annual Report. A small number of respondents is expected to submit a third response, should the proposed collection of information for comments be added to the system.

Estimated Annual Reporting Burden: NPS estimates the estimated annual reporting burden will be 10,560 hours by the year 2010.

Dated: February 7, 2007.
Leonard E. Stowe,
NPS, Information Collection Clearance Officer.

[FR Doc. 07-1079 Filed 3-7-07; 8:45 am]

BILLING CODE 4310-EJ-M